DEPARTMENT OF TRANSPORTATION

National Highway Traffic Safety Administration

[U.S. DOT Docket No. NHTSA-2013-0023]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before June 21, 2013.

ADDRESSES: You may submit comments identified by DOT Docket ID Number NHTSA-2013-0023 using any of the following methods:

Electronic submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays. Fax: 1-(202) 493-2251.

Instructions: Each submission must include the Agency name and the Docket number for this Notice. Note that all comments received will be posted without change to http://www.regulations.gov including any personal information provided.

FOR FURTHER INFORMATION CONTACT: Dr. Kathy Sifrit, Contracting Officer's Technical Representative, Office of Behavioral Safety Research (NTI-132), National Highway Traffic Safety Administration, 1200 New Jersey Avenue SE., W46-472, Washington, DC 20590. Dr. Sifrit's phone number is (202) 366-0868 and her email address is kathy.sifrit@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following: (i) Whether the proposed collection of information is necessary for the proper performance of the functions of the agency, including whether the information will have practical utility; (ii) The accuracy of the agency's estimate of the burden of the proposed collection of information, including the validity of the methodology and assumptions used; (iii) How to enhance the quality, utility, and clarity of the information to be collected; and (iv) How to minimize the burden of the collection of information on those who are to respond, including the use of appropriate automated, electronic, mechanical, or other technological collection techniques or other forms of information technology, e.g., permitting electronic submission of responses. In compliance with these requirements, NHTSA asks public comment on the following proposed collection of information:

Older Driver Compliance With Licensing Restrictions

Type of Request—New information collection requirement.

OMB Clearance Number—None.

Form Number—NHTSA 1186.

Requested Expiration Date of Approval—3 years from date of approval.

Summary of the Collection of Information—The National Highway Traffic Safety Administration (NHTSA) proposes to collect information from licensed drivers about their driver license status and driving habits. Participation in the study will be voluntary. Drivers will volunteer for the study by responding to a mailed or individually-delivered descriptive solicitation. The drivers will be asked a series of seven questions to determine eligibility to participate in a study of driving restrictions. A project assistant will then describe the proposed study to those respondents who qualify for the study and answer all questions that the drivers may have. Each driver who meets the criteria for subject selection will then be asked if he or she wishes to participate. If yes, a project assistant will ask the following questions to facilitate participation: “What is the make, model, and year of your car?” “What is your car's Tag number?”(so the installer can identify the car) and “Will you be spending the next two or three months in the area?”

A system will be installed in the participant's car to measure car usage; this system will collect all remaining data necessary for the study. One device will collect the car's Global Positioning System coordinates and a companion device will capture an image of the driver to confirm the operator on each trip is the study participant.

Description of the Need for the Information and Proposed Use of the Information—NHTSA was established to reduce the number of deaths, injuries, and economic losses resulting from motor vehicle crashes on the Nation's highways. As part of this statutory mandate, NHTSA is authorized to conduct research as a foundation for the development of motor vehicle standards and traffic safety programs.

Some States impose driving restrictions on drivers who have been found to suffer impairments that may affect safety, but it is unclear whether drivers with those restrictions comply. The proposed questions will allow research staff to ensure that prospective participants meet study inclusion criteria and facilitate their study participation. The purpose of the study is to document driving habits of drivers with restrictions imposed by the licensing authority, drivers with restrictions recommended by a certified driving rehabilitation specialist but without imposed restrictions, and a control group of unrestricted drivers of similar age. Analyses of these data will provide information about the extent to which drivers comply with license restrictions and with certified driving rehabilitation specialist recommendations, and whether such restrictions lead to reduced driving exposure. NHTSA will use the information to inform recommendations to the States regarding restricted licensing practices for the purpose of reducing injuries and loss of life on the highway.

Description of the Likely Respondents (Including Estimated Number, and Proposed Frequency of Response to the Collection of Information)—Respondents will include drivers licensed in the State of Virginia, age 70 years and older. The agency proposes to conduct 240 telephone conversations with respondents to descriptive solicitations to yield 120 participants.

Estimate of the Total Annual Reporting and Record Keeping Burden Resulting from the Collection of Information—The 240 telephone conversations will average 10 minutes in length including introduction, qualifying questions, potential participant questions, logistical questions, and conclusion. The total estimated annual burden will be 40 hours. Participants will incur no costs from the data collection and participants will incur no record keeping burden and no record keeping cost from the information collection.

Authority: 44 U.S.C. Section 3506(c)(2)(A).

Issued on April 17, 2013.
Jeffrey Michael,
Associate Administrator, Research and Program Development.

[FR Doc. 2013-09365 Filed 4-19-13; 8:45 am]

BILLING CODE 4910-59-P